DEPARTMENT OF TRANSPORTATION

Federal Aviation Administration

Notice Before Waiver With Respect to Land at Carroll County Regional Airport, Westminster, MD

AGENCY: Federal Aviation Administration (FAA), DOT.

ACTION: Notice of intent of waiver with respect to land.

SUMMARY: The FAA is publishing notice of proposed release of approximately 12 acres of land at the Carroll County Regional Airport, Westminster, Maryland. There are no impacts to the Airport and the land is not needed for airport development as shown on the Airport Layout Plan. Fair Market Value of the land will be paid to the Airport sponsor, and used for Airport purposes.

DATES: Comments must be received on or before June 28, 2002.

ADDRESSES: Comments on this application may be mailed or delivered in triplicate to the FAA at the following address: Terry J. Page, Manager, FAA Washington Airports District Office, P.O. Box 16780, Washington, DC 20041-6780.

In addition, one copy of any comments submitted to the FAA must be mailed or delivered to Steve Brown, Manager, Carroll County Regional Airport, at the following address: Steve Brown, Airport Manager, Carroll County Department of Enterprise and Recreation Services, 225 North Center Street, Room 100, Westminster, Maryland 21157.

FOR FURTHER INFORMATION CONTACT: Mr. Terry Page, Manager, Washington Airports District Office, P.O. Box 16780, Washington, DC 20041-6780; telephone (703) 661-1354, fax (703) 661-1370, e-mail Terry.Page@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30 day public notice must be provided before the Secretary may waive any condition imposed on an interest in surplus property.

Issued in Chantilly, Virginia, on May 8, 2002.
Terry J. Page,
Manager, Washington Airports District Office, Eastern Region.

[FR Doc. 02-13376 Filed 5-28-02; 8:45 am]

BILLING CODE 4910-13-M